DEPARTMENT OF COMMERCE

National Oceanic and Atmospheric Administration

RIN 0648-XC663

Pacific Fishery Management Council; Public Meeting

AGENCY: National Marine Fisheries Service (NMFS), National Oceanic and Atmospheric Administration (NOAA), Commerce.

ACTION: Notice of public meeting.

SUMMARY: The Pacific Fishery Management Council's (Pacific Council) ad hoc South of Humbug Pacific Halibut Workgroup (Workgroup) will hold a webinar to review analysis of recreational management measures designed to reduce Pacific halibut catch in southern Oregon and northern California (i.e., south of Humbug Mountain).

DATES: The webinar will be held Wednesday, June 12, 2013 from 9 a.m. until business for the day has been completed.

ADDRESSES: The meeting will be held via webinar. To attend the Workgroup meeting, please reserve your seat by visiting https://www2.gotomeeting.com/register/557684818. If requested, enter your name, email address, and the webinar ID, which is 557684818. Once registered, participants will receive a confirmation email message that contains detailed audio and viewing information about the event. To only join the audio teleconference of the webinar from the U.S. or Canada, call the toll number +1 (909) 259-0023 (note: this is not a toll-free number) and use the access code 959-411-833 when prompted.

Council address: Pacific Fishery Management Council, 7700 NE Ambassador Place, Suite 101, Portland, OR 97220-1384.

FOR FURTHER INFORMATION CONTACT: Ms. Kelly Ames, Staff Officer, Pacific Council; telephone: (503) 820-2280.

SUPPLEMENTARY INFORMATION: The objective of the meeting is to review analysis of management measures, which are designed to reduce catch of Pacific halibut in southern Oregon and northern California (i.e., south of Humbug Mountain). The Workgroup is tentatively scheduled to report their findings to the Pacific Council at their September 2013 meeting in Boise, ID.

Although non-emergency issues not contained in the meeting agenda may come before the Workgroup for discussion, those issues may not be the subject of formal Workgroup action during this meeting. Workgroup action will be restricted to those issues specifically listed in this notice and any issues arising after publication of this notice that require emergency action under section 305(c) of the Magnuson-Stevens Fishery Conservation and Management Act, provided the public has been notified of the Workgroup's intent to take final action to address the emergency.

Special Accommodations

This meeting is physically accessible to people with disabilities. Requests for sign language interpretation or other auxiliary aids should be directed to Mr. Kris Kleinschmidt at (503) 820-2280 at least 5 days prior to the meeting date.

Dated: May 14, 2013.
Tracey L. Thompson,
Acting Deputy Director, Office of Sustainable Fisheries, National Marine Fisheries Service.

[FR Doc. 2013-11787 Filed 5-16-13; 8:45 am]

BILLING CODE 3510-22-P